DEPARTMENT OF AGRICULTURE

Food and Nutrition Service

7 CFR Part 245

[Docket No. FNS-2025-0008]

RIN 0584-AF08

National School Lunch Program and School Breakfast Program: Elimination of the State Ameliorative Action Reporting Requirement for School Meals Eligibility Verification

AGENCY: Food and Nutrition Service (FNS), Department of Agriculture (USDA).

ACTION: Interim final rule; reopening of public comment period.

SUMMARY: Due to a technical problem with the docket that prevented comments from being accepted during part of the initial comment period, FNS is reopening the comment period for the interim final rule that appeared in the Federal Register on June 6, 2025. The rule rescinds an unnecessary reporting requirement for the school meals application verification process.

DATES: The comment period for the rule published June 6, 2025, at 90 FR 24049, is reopened. Comments must be received on or before September 8, 2025.

ADDRESSES: Comments can be submitted through the Federal e-rulemaking portal at https://www.regulations.gov and should reference the document number and the date and page number of this issue of the Federal Register. FNS strongly prefers comments to be submitted electronically. However, written comments may be submitted (i.e., postmarked) via mail to Docket No. FNS-2025-0008, FNS, USDA, 1320 Braddock Place, Alexandria, VA 22314. All comments submitted in response to this notice will be included in the record and will be made available to the public.

Please be advised that the identity of individuals or entities submitting comments will be made public on the internet at the address provided above. Parties who wish to comment anonymously may do so by entering “N/A” in the fields that would identify the commenter. A plain language summary of this notice of interim final rule is available at https://www.regulations.gov in the docket for this rulemaking.

FOR FURTHER INFORMATION CONTACT: James C. Miller, Administrator, Food and Nutrition Service, at (703) 305-2060, or James.Miller@usda.gov with a subject line of “RIN 0584-AF08”.

SUPPLEMENTARY INFORMATION: On June 6, 2025, at 90 FR 24049, FNS published in the Federal Register an interim final rule entitled “National School Lunch Program and School Breakfast Program: Elimination of the State Ameliorative Action Reporting Requirement for School Meals Eligibility Verification.”

The interim final rule provided for a 30-day comment period, which would have ended July 7, 2025. However, on or about July 1, FNS learned that the public comments were not being accepted to the Federal eRulemaking Portal at www.regulations.gov.

FNS informed staff at the Federal eRulemaking Portal and the issue has been resolved. Nevertheless, given the uncertainty regarding the time that the Portal was not operational, FNS has determined that a thirty-day reopening of the comment period, to September 8, 2025, is appropriate. This reopening will allow interested persons who may have tried unsuccessfully to submit comments additional time to do so.

James C. Miller,
Administrator.

[FR Doc. 2025-15099 Filed 8-7-25; 8:45 am]

BILLING CODE P